DEPARTMENT OF LABOR

Employment and Training Administration

[TA-W-82,035]

Georgia Pacific LLC, Also Doing Business as Duluth Hardboard Plant, Specialty Manufacturing Division, a Subsidiary of Koch Industries, Including On-Site Leased Workers of DS&E Company, Duluth, Minnesota; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 14, 2103, applicable to workers of Georgia Pacific, LLC, also doing business as Duluth Hardboard Plant, Specialty Manufacturing Division, a subsidiary of Koch Industries, Duluth, Minnesota (subject firm). The workers produce hardboard.

At the request of the State of Minnesota, the Department reviewed the certification for workers of the subject firm.

The intent of the Department's certification is to include all workers at the subject firm who were adversely affected by increased imports of hardboard.

The Department has determined that these workers of DS&E Company were sufficiently under the control of the subject firm to be considered leased workers.

Based on these findings, the Department is amending this certification to include workers leased from DS&E Company working on-site at the subject firm.

The amended notice applicable to TA-W-82,035 is hereby issued as follows:

All workers of Georgia Pacific, LLC, also doing business as Duluth Hardboard Plant, Specialty Manufacturing Division, a subsidiary of Koch Industries, including on-site leased workers of DS&E Company, Duluth, Minnesota, who became totally or partially separated from employment on or after October 2, 2011 through February 14, 2015, and all workers in the group threatened with total or partial separation from employment on February 14, 2013 through February 14, 2015 are eligible to apply for adjustment assistance under Section 223 of the Trade Act of 1974, and are also eligible to apply for alternative trade adjustment assistance under Section 246 of the Trade Act of 1974.

Signed in Washington, DC, this 26th day of April, 2013.
Del Min Amy Chen,
Certifying Officer, Office of Trade Adjustment Assistance.

[FR Doc. 2013-11472 Filed 5-14-13; 8:45 am]

BILLING CODE 4510-FN-P